SURFACE TRANSPORTATION BOARD

[Docket No. AB 1256]

Boston and Maine Corporation & Springfield Terminal Railway Company—Adverse Discontinuance of Operating Authority—Milford-Bennington Railroad Company, Inc.

On April 13, 2018, Boston and Maine Corporation and the Springfield Terminal Railway Company (collectively, Pan Am) filed an application under 49 U.S.C. 10903 requesting that the Surface Transportation Board (the Board) authorize the third-party, or “adverse,” discontinuance of operating authority held by Milford-Bennington Railroad Company, Inc. (MBR) over approximately 5.36 miles of rail line on the Hillsborough Branch from milepost 11.00 to milepost 16.36 in southern New Hampshire (the Line). The Line traverses United States Postal Service Zip Codes 03055 and 03086.

According to Pan Am, MBR, a Class III rail carrier, has been operating over the Line pursuant to a trackage rights agreement dated June 22, 1992, which Pan Am claims expired in 2004.¹ Pan Am asks that the Board terminate MBR's operating authority so that Pan Am may repossess its property, after which Pan Am states it would provide service over the Line.

¹ See Milford-Bennington R.R.—Trackage Rights Exemption—Boston & Me. Corp., FD 32103 (ICC served July 9, 1992).

According to Pan Am, the Line does not contain federally granted rights-of-way. Any documentation in Pan Am's possession will be made available promptly to those requesting it. Pan Am's entire case-in-chief for adverse discontinuance was filed with the application.

In a decision served June 23, 2017, Pan Am was granted exemptions from several statutory provisions as well as waivers of certain Board regulations that were not relevant to its adverse discontinuance application or that sought information not available to Pan Am.

Any interested person may file written comments or protests (including protestant's entire opposition case) concerning the proposed adverse discontinuance by May 29, 2018. Persons who may oppose the proposed adverse discontinuance but who do not wish to participate fully in the process by submitting verified statements of witnesses containing detailed evidence should file comments. Persons opposing the proposed adverse discontinuance who wish to participate actively and fully in the process should file a protest, observing the filing, service, and content requirements of 49 CFR 1152.25. Pan Am's reply is due by June 12, 2018.

All filings in response to this notice must refer to Docket No. AB 1256 and must be sent to: (1) Surface Transportation Board, 395 E Street SW, Washington, DC 20423-0001; and (2) Robert B. Burns, 1700 Iron Horse Park, North Billerica, MA 01862.

Filings may be submitted either via the Board's e-filing format or in the traditional paper format. Any person using e-filing should comply with the instructions found on the Board's “www.stb.gov” website, at the “E-FILING” link. Any person submitting a filing in the traditional paper format should send the original and 10 copies of the filing to the Board with a certificate of service. Except as otherwise set forth in 49 CFR pt. 1152, every document filed with the Board must be served on all parties to this adverse discontinuance proceeding. 49 CFR 1104.12(a).

Persons seeking further information concerning discontinuance procedures may contact the Board's Office of Public Assistance, Governmental Affairs, and Compliance at (202) 245-0238 or refer to the full discontinuance regulations at 49 CFR pt. 1152. Assistance for the hearing impaired is available through the Federal Information Relay Service (FIRS) at 1-800-877-8339.

Board decisions and notices are available on our website at “WWW.STB.GOV.”

Decided: April 30, 2018.
By the Board, Scott M. Zimmerman, Acting Director, Office of Proceedings.
Kenyatta Clay,
Clearance Clerk.

[FR Doc. 2018-09398 Filed 5-2-18; 8:45 am]

BILLING CODE 4915-01-P